ENVIRONMENTAL PROTECTION AGENCY

[OPP-2004-0280; FRL-7675-1]

Pesticide Safety Program for Agricultural Workers, Pesticide Handlers and Health Providers; Notice of Funds Availability

AGENCY: Environmental Protection Agency (EPA).

ACTION: Notice.

SUMMARY: EPA's Office of Pesticide Programs (OPP) is soliciting proposals for financial assistance to support a continuing national and international pesticide safety program to analyze occupational safety programs and information for agricultural workers, pesticide providers, and health professionals to reduce exposure to pesticides. As part of this program, the grantee will analyze the current status of private and public programs on pesticide safety, conduct outreach meetings with experts from the agricultural community to assess needs and develop education and training programs, outreach materials and improved hazard communications for pesticide applicators, agricultural workers, health providers, growers and local, state, national and international organizations, and government agencies. The total funding available for award in FY 2005, which represents funding set aside in FY 2004, is expected to be approximately $600,000. At the conclusion of the first 1 year period of performance and, based on the availability of future funding, incremental funding of up to $600,000 may be made available for each year allowing the project to continue for a total of five periods of performance (approximately 5 years) and with a total potential funding of up to $3,000,000 for the 5-year period, depending on need and the Agency budget in outlying years.

DATES: Applications must be received by EPA on or before December 27, 2004.

ADDRESSES: Applications may be submitted by mail, fax, or electronically. Please follow the detailed instructions provided in Unit IV. of the SUPPLEMENTARY INFORMATION.

FOR FURTHER INFORMATION CONTACT: Carol Parker, Field and External Affairs Division (7506C), Office of Pesticide Programs, Environmental Protection Agency, 1200 Pennsylvania Ave., NW., Washington, DC 20460-0001; telephone number: (703) 305-6458; fax number: (703) 308-2962; e-mail address: parker.carol@epa.gov.

SUPPLEMENTARY INFORMATION: The following listing provides certain key information concerning the funding opportunity.

• Federal agency name: Environmental Protection Agency (EPA).

• Funding opportunity title: Pesticide Safety Program for Agricultural Workers, Pesticide Handlers and Health Providers.

• Funding opportunity number: OPP-002.

• Announcement type: The initial announcement of a funding opportunity.

• Catalog of Federal Domestic Assistance (CFCA) number: This program is included in the Catalog of Federal Domestic Assistance under number 66.716 at http://www.cfda.gov.

• Dates: Applications must be received by EPA on or before December 27, 2004.

I. Funding Opportunity Description

A. Authority

EPA expects to enter into cooperative agreements under the authority provided in FIFRA section 20 which authorizes the Agency to issue grants or cooperative agreements for research, public education, training, monitoring, demonstration and studies. Regulations governing these cooperative agreements are found at 40 CFR part 30 for institutions of higher education, colleges and universities, and non-profit organizations, and 40 CFR part 31 for states and local governments. In addition, the provisions in 40 CFR part 32, governing government wide debarment and suspension; and the provisions in 40 CFR part 34, regarding restrictions on lobbying apply. All costs incurred under this program must be allowable under the applicable OMB Cost Circulars: A-87 (states and local governments), A-122 (nonprofit organizations), or A-21 (universities). Copies of these circulars can be found at http://www.whitehouse.gov/omb/circulars/. In accordance with EPA policy and the OMB circulars, as appropriate, any recipient of funding must agree not to use assistance funds for lobbying, fund-raising, or political activities (e.g., lobbying members of Congress or lobbying for other Federal grants, cooperative agreements, or contracts). See 40 CFR part 34.

B. Program Description

1. Purpose and scope. The cooperative agreement awarded under this program is intended to provide financial assistance to support a continuing project to work with a wide spectrum of agricultural stakeholders and pesticide safety education and training experts to continue research, assessment and development of improved pesticide safety programs for agricultural workers, pesticide handlers and health providers to reduce exposures to the hazards of pesticides.

Under this new cooperative agreement, experience and expertise in bringing together a broad external network of key agricultural experts and interests is critical to developing more effective pesticide safety programs on local, state, national and international levels. Working with a wide spectrum of environmental and agricultural representatives will also help address the General Accounting Office reports urging EPA to improve its outreach and involvement with stakeholder organizations. Experience and expertise in working with state agencies, farmworker, grower, commodity and health organizations, the Cooperative Extension Service, the agricultural chemical industry, and other members of the agricultural community to assess key components in the area of worker and handler training, hazardous communication, and health is critical to the success of this project. The cooperative agreement will also work with the stakeholders and experts in creating effective model pesticide safety programs and materials for farmworkers, their families, pesticide handlers, and health care providers.

Activities to be funded: In working with a wide spectrum of agricultural experts and stakeholders, the cooperative agreement will fund the continued development of improved national and international pesticide safety training and education programs to reduce exposure to the hazards of pesticides. Key activities to be funded under this cooperative agreement are:

a. Assessment and development of model state and national training programs and materials on agricultural worker safety, working with growers, farmworker organizations, and state agencies, that would serve as a national model for states across the country.

b. Work with experts on pesticide applicator safety to develop model pesticide safety and training programs, materials and core examinations for mixers, loaders, and applicators of agricultural pesticides.

c. Work with Canadian and Mexican environmental and agricultural agencies and organizations, pesticide producers, and other members of the international agricultural pesticide safety community to analyze existing safety training and educational programs for pesticide handlers and agricultural workers and develop standard models that would provide improved training across borders.

d. Work cooperatively with a broad range of agricultural interests at the state, national, and international level to assess hazard communications programs and develop a model program which would provide additional information on specific pesticide hazards.

e. Working with key members of the health care provider network of medical providers, including experts and representatives from migrant and rural health care clinics, hospitals, medical colleges and universities, state and national medical educators, and others to transform recommendations for prevention and improved identification and treatment of pesticide illnesses into model education and training programs and materials.

f. Based on recommendations from new analysis of worker and applicator safety training programs, hazardous communication efforts, health provider needs, grower and commodity interests, and state and local programs, develop additional pesticide safety materials and projects to reduce risks from pesticide hazards.

This program will further Agency efforts under the Federal Insecticide, Fungicide, and Rodenticide Act (FIFRA), (7 U.S.C. 136w) to reduce the risk of pesticide poisonings and injuries among agricultural workers, handlers of agricultural pesticides, and the public by providing essential training about the potential hazards associated with pesticide chemicals and how to reduce those risks.

2. Goal and objectives. Through the cooperative agreement sought under this solicitation for the Pesticide Safety Program for Agricultural Workers, Pesticide Handlers and Health Providers, EPA intends to work with an organization that has experience and expertise in bringing together diverse members of the agricultural pesticide safety community to develop and improve pesticide safety programs for protecting farmworkers and pesticide applicators from the hazards of pesticides, and to support the Health Care Provider's Initiative.

The objective of this program is to bring together experts and representatives from a wide spectrum of the agricultural community on local, state, national, and international levels through conferences, meetings, and continuing workgroups to develop model pesticide safety programs and materials for farmworkers, pesticide handlers, and health professionals to reduce risks from exposure to the hazards of pesticides. Meeting and coordinating with pesticide safety education and training leaders and agricultural stakeholders will help to develop effective programs and materials through identifying technical experts, providing review and oversight of materials and pilot programs as they are developed and pilot tested.

3. History. In August of 1992, EPA's Worker Protection Standard (WPS) (40 CFR part 170) was published to require actions to reduce the risk of pesticide poisonings and injuries among agricultural workers and pesticide handlers. The WPS offers protections to more than 3½ million agricultural workers who work with pesticides at more than 560,000 workplaces on farms, forests, nurseries, and greenhouses. The WPS contains requirements for pesticide safety training, notification of pesticide applications, use of personal protective equipment, restricted entry intervals following pesticide application, decontamination supplies, and emergency medical assistance. Also, in August of 1992, EPA proposed a Notice of Proposed Rulemaking to develop requirements for communicating hazard information about pesticides to workers. EPA has never published that final rule. A national assessment to evaluate the WPS is complete and the results have contributed to developing pilot programs aimed at reducing some of the obstacles to effective pesticide safety training, education, and hazard communications.

In addition to the WPS, EPA's Certification of Pesticide Applicators (40 CFR part 171) has been in effect since 1974. EPA's Pesticide Applicator Certification and Training Program provides pesticide applicators with the knowledge and ability to use pesticides safely and effectively. Pesticide applicators are trained by state Cooperative Extension Service pesticide applicator training programs and are certified by pesticide State Lead Agencies.

EPA regulations require that applicators be certified as competent to apply restricted use pesticides in accordance with national standards. Certification programs are conducted by states, territories, and tribes in accordance with these national standards. Training of certified applicators covers safe pesticides use as well as environmental issues such as endangered species and water quality protection. More than one million applicators are currently certified nationwide, including more than 900,000 private applicators and about 350,000 commercial applicators. Recommendations from meetings and ongoing workgroups of national and international pesticide safety education and training experts have resulted in recommendations to improve the education and training programs. Programs are underway to continue the development of improved and model programs and materials for pesticide handlers and their trainers, including certified applicators.

In addition to assessments of the Worker Protection and Certification and Training Programs, a new initiative created by the EPA and the National Environmental Education & Training Foundation (NEETF) in collaboration with other Federal agencies and professional associations of health care providers was launched in 1999. The Health Care Providers Initiative is aimed at incorporating pesticide information into the education and practice of health care providers. The goal is to improve the recognition, diagnosis, management, and prevention of adverse health effects from pesticide exposures in agricultural areas.

In 2001, OPP funded a cooperative agreement with the Agricultural Research Institute now the Council for Agricultural Science and Technology in response to a growing concern among members of the agricultural community that there was a need to research, assess, and develop improved programs and materials for farmworkers, pesticide handlers, and health care providers, both nationally and internationally. A key component to the success of the program was bringing together a wide spectrum of agricultural stakeholders and pesticide safety educators and training experts to ensure that the programs were workable for all aspects of the affected agricultural community.

To continue a comprehensive national and international pesticide safety project to research, analyze, and develop improved pesticides safety programs and information for agricultural workers, pesticide handlers, and health providers, EPA is soliciting applications from non-profit organizations, institutions, or agencies with expertise in bringing together a wide spectrum of agricultural technical and scientific experts in pesticide safety education and training of farmworkers, pesticide handlers, and rural health care providers. Applicants should be non-profit organizations, institutions or agencies with abilities in agricultural pesticide safety education and training programs, have experience and expertise in bringing together diverse agricultural stakeholders, and have background in agricultural pesticide safety education, science, research, and technology.

This document outlines the application requirements and procedures for the Pesticide Safety Program for Agricultural Workers, Pesticide Handlers and Health Providers.

II. Award Information

The funding for the selected award project is in the form of a cooperative agreement awarded under FIFRA section 20.

The total funding available for award in FY 2005 represents funding set aside in FY 2004 and is expected to be approximately $600,000. At the conclusion of the first 1 year period of performance, incremental funding of up to $600,000 may be made available for each subsequent year, depending on need and the Agency budget in outlying years, which would allow the project to continue for a total of 5 periods of performance (approximately 5 years) and totaling up to $3,000,000 for the 5-year period.

Should additional funding become available for award based on the Agency budget in those outlying years, the Agency may make available additional funds under the cooperative agreement granted based on the solicitation and in accordance with the final selection process, without further notice of competition during the first year after the competition award.

III. Eligibility Information

1. Threshold eligibility factors. To be eligible for consideration, applicants must meet all of the following criteria. Failure to meet the following criteria will result in the automatic disqualification for consideration of the proposal for funding:

• Be an applicant who is eligible to receive funding under this announcement, including states, U.S. territories or possessions, federally recognized Tribal governments and organizations, public and private universities and colleges, hospitals, laboratories, other public or private nonprofit institutions, and individuals. Non-profit organizations described in section 501(c)(4) of the Internal Revenue Code that engage in lobbying activities as defined in section 3 of the Lobbying Disclosure Action of 1995 are not eligible to apply. Eligible applicants may include: Agricultural, environmental, health, and educational organizations and agencies, colleges or universities, the Cooperative Extension Service and other public or non-profit agencies, authorities, institutions, organizations, individuals, or other qualified entities working in agricultural science, technology, research, training, safety, education, and communications. Applicants with broad reaches into the diverse interests of the agricultural community, including farmworkers, farmworker families, pesticide handlers, health providers, growers, the Cooperative Extension Service, state, national and international agriculture, environment, labor and occupational health, rural and migrant health, education agencies are eligible.

• The proposal must address all of the qualifications in the high priority areas for consideration under Unit III.2.a-f.

• The proposal must address all of the activities to be funded, under Unit I.B.1.a-f.

• The proposal must meet all format and content requirements contained under Unit IV.

The proposal must comply with the directions for submittal contained in Unit IV.

2. Eligibility criteria. Applicants must demonstrate ability, experience and/or expertise in the following high priority areas for consideration. Applicants will be evaluated on the following criteria:

a. Expertise and experience in bringing together a broad spectrum of agricultural experts to work together to analyze and develop improved pesticide safety education and training materials for agricultural workers, pesticide handlers, and health providers. Applicants must demonstrate experience and ability in working with a broad spectrum of agricultural interests to analyze and develop improved pesticide safety training, education and communications programs and materials for farmworkers and their families, pesticide handlers and health providers.

b. Ability and experience in working with widely diverse agricultural experts and representatives. Applicant must demonstrate the ability to work with the full range of agricultural, environmental, labor, health and education agencies and organizations, including those representing farmworkers, growers, commodity groups, migrant health clinics, migrant education, cooperative extension service, pesticide producers, and agricultural labor.

c. Expertise and experience in formulating pesticide safety programs and materials from the state to international levels. Applicant must demonstrate ability in working with agricultural interests and representatives at multiple levels, including state, national and international, to develop improved pesticide safety education and training programs.

d. Ability to identify and employ experts to develop improved programs and materials. Applicant must demonstrate ability to identify and employ experts to develop education and training pesticide safety programs for trainers, farmworkers and their families, pesticide applicators, and others. This would include development of materials, pilot testing of programs and materials.

e. Expertise in organizing conferences and work groups. Applicant must demonstrate ability to organize working conferences with continuing workgroups with goals of turning assessments and recommendations into programs and materials to improve pesticide safety education and training for agricultural workers, their families, pesticide handlers, and other members of the agricultural community.

f. Ability to pilot test new programs and materials to finalize model programs. Applicant must demonstrate experience or expertise in pilot testing model programs for effectiveness in reaching agricultural workers, pesticide handlers, and/or their trainers.

3. Cost sharing or matching. There are no cost share requirements for this project. However, matching funds are encouraged.

IV. Application and Submission Information

1. Address to request proposal package. Carol Parker, Field and External Affairs Division (7506C), Office of Pesticide Programs, Environmental Protection Agency, 1200 Pennsylvania Ave., NW., Washington, DC 20460-0001.

2. Content and form of application submission. Proposals must be typewritten, double spaced in 12 point or larger print using 8.5 x 11 inch paper with minimum 1 inch horizontal and vertical margins. Pages must be numbered in order starting with the cover page and continuing through the appendices. One original and one electronic copy (e-mail or disk) is required.

All proposals must include:

• Completed Standard Form SF 424*, Application for Federal Assistance. Please include organization fax number and e-mail address. The application forms are available on line at http://www.epa.gov/ogd/grants/how_to_apply.htm.

• Completed Section B--Budget Categories, on page 1 of Standard Form SF 424A* (see allowable costs discussion below). Blank forms may be located at http://www.epa.gov/ogd/grants/how_to_apply.htm.

• Detailed itemization of the amounts budgeted by individual Object Class Categories (see allowable costs discussion below).

• Statement regarding whether this proposal is a continuation of a previously funded project. If so, please provide the assistance number and status of the current grant/cooperative agreement.

• Executive Summary. The Executive Summary shall be a stand alone document, not to exceed one page, containing the specifics of what is proposed and what you expect to accomplish regarding measuring or movement toward achieving project goals. This summary should identify the measurable environmental results you expect including potential human health benefits.

• Table of contents. A one page table listing the different parts of your proposal and the page number on which each part begins.

• Proposal narrative. Includes Parts I-V as identified below (not to exceed 10 pages).

• Part I--Project title. Self explanatory.

• Part II--Objectives. A numbered list (1, 2, etc.) of concisely written project objectives, in most cases, each objective can be stated in a single sentence.

• Part III--Justification. For each objective listed in Part II, discuss the potential outcome in terms of human health, environmental and/or pesticide risk reduction.

• Part IV--Approach and methods. Describe in detail how the program will be carried out. Describe how the system or approach will support the program goals.

• Part V--Impact assessment. Please state how you will evaluate the success of the program in terms of measurable results. How and with what measures will humans be better protected as a result of the program. Quantifiable risk reduction measures should be described.

• Appendices. These appendices must be included in the cooperative agreement proposal. Additional appendices are not permitted.

• Timetable. A timetable that includes what will be accomplished under each of the objectives during the project and when completion of each objective is anticipated.

• Major participants. List all affiliates or other organizations, educators, trainers and others having a major role in the proposal. Provide name, organizational affiliation, or occupation and a description of the role each will play in the project. A brief resume (not to exceed two pages) should be submitted for each major project manager, educator, support staff, or other major participant.

3. Submission dates and times. You may submit an application through the mail, by fax or electronically. Regardless of submission method, all applications must be received by EPA on or before December 27, 2004.

4. Intergovernmental Review. All applicants should be aware that formal requests for assistance (i.e., SF 424 and associated documentation) may be subject to intergovernmental review under Executive Order 12372, “Intergovernmental Review of Federal Programs.” Applicants should contact their state's single point of contact (SPOC) for further information. There is a list of these contacts at the following web site:http:/whitehouse.gov/omb/grants/spoc.html.

5. Funding restrictions. EPA grant funds may only be used for the purposes set forth in the cooperative agreement, and must be consistent with the statutory authority for the award. Cooperative agreement funds may not be used for matching funds for other Federal grants, lobbying, or intervention in Federal regulatory or adjudicatory proceedings. In addition, Federal funds may not be used to sue the Federal government or any other governmental entity. All costs identified in the budget must conform to applicable Federal Cost Principles contained in OMB Circular A-87; A-122; and A-21, as appropriate.

6. Other submission requirements. As indicated above, each application must include the original paper copy of the submission, along with one electronic copy. The electronic copy of your application package, whether submitted separately by e-mail or on a disk, please ensure that the electronic copy is consolidated into a single file, and that you use Word Perfect WP8/9 for Windows, or Adobe PDF 4/5. If mailing a disk, please use a 3.5 disk that is labeled as a proposal for the Pesticide Safety Program for Agricultural Workers, Pesticide Handlers and Health Care Providers, and include your pertinent information. Please check your electronic submissions to ensure that it does not contain any computer viruses.

Submit your application using one of the following methods:

By mail to: Carol Parker, Office of Pesticide Programs, Mail code: 7506C, Environmental Protection Agency, 1200 Pennsylvania Ave., NW., Washington, DC 20460-0001.

By fax to: Carol Parker at fax number: (703) 308-2962.

By e-mail to: parker.carol@epa.gov.

Confidential business information. Applicants should clearly mark information contained in their proposal which they consider confidential business information. EPA reserves the right to make final confidential decisions in accordance with Agency regulations at 40 CFR part 2, subpart B. If no such claim accompanies the proposal when it is received by EPA, it may be made available to the public by EPA without further notice to the applicant.

V. Application Review Information

Review and Selection Process

Applicants will be screened to ensure that they meet all eligibility criteria and will be disqualified if they do not meet all eligibility criteria. All proposals will be reviewed, evaluated, and ranked by a selected panel of EPA reviewers based on the following evaluation criteria and weights (Total: 100 points):

1. Project proposal must provide information on the education, skills, training of the project leader and/or other key managers. As appropriate, cite technical qualifications and specific examples of prior, relevant experience. Demonstrate ability of organization to identify and employ state, national or international experts in developing education and training pesticide safety programs for both trainers and farmworkers, pesticide applicators and others, as outlined in Unit III.2.a-f. This would include assessment of worker protection needs for farmworkers and pesticide applicators, development of recommendations from expert workgroups, and development and pilot testing of pesticide safety programs and materials. (Weight: 30 points)

2. Demonstrate experience and/or ability in carrying out activities to be funded for the assessment and development of state, national, and international pesticide safety education, training, and hazard communications programs for agricultural workers, pesticide handlers, and health providers, as outlined in Unit I.B.1.a-f. Outline how work in this area will help reduce exposures to pesticide hazards and demonstrate how you will evaluate the success of the project in terms of measurable environmental results. (Weight: 30 points)

3. Project proposal must demonstrate experience and ability in bringing together broad spectrum of diverse agricultural interests and pesticide safety experts to work together to analyze and develop improved pesticide safety education and training materials for agricultural workers, pesticide handlers, and health providers at multi-levels, including local, state, national, and international, as outlined in Unit III.2.a-f. (Weight: 20 points)

4. Expertise in organizing conferences and work groups. Applicant must demonstrate ability to organize working conferences with continuing work groups with goals of turning assessments and recommendations into programs and materials to improve pesticide safety education and training for agricultural workers, their families, pesticide handlers, and other members of the agricultural community, as outlined in Unit III.2.a-f. (Weight: 10 points)

5. Provide a detailed budget narrative demonstrating a clear link between resources and project objectives. If EPA funding for this project will be supplemented by other sources, please identify them. (Weight: 10 points)

The proposals will be reviewed and evaluated by a team of internal EPA Worker Protection and Pesticide Handler Certification and Training experts. The final funding decision will be made from a group of top rated proposals by the Chief of the Certification and Worker Protection Branch, Field and External Affairs Division, Office of Pesticide Programs. The Agency reserves the right to reject all proposals and make no awards. The procedures for dispute resolution at 40 CFR 30.63 and 40 CFR 31.70 apply.

VI. Award Administration Information

1. Award Notices. The Certification and Worker Protection Branch in OPP will mail an acknowledgment to applicants upon receipt of the application. Once all of the applications have been reviewed, evaluated, and ranked, applicants will be notified of the outcome of the competition. A listing of the successful proposal will be posted on the Certification and Worker Protection website address at the conclusion of the competition (go to: http://www.epa.gov/pesticides/health/worker.htm). The website may also contain additional information about this announcement including information concerning deadline extensions or other modifications.

2. Administrative and national policy requirements. An applicant whose proposal is selected for Federal funding must complete additional forms prior to award (see 40 CFR 30.12 and 31.10), and will be required to certify that they have not been debarred or suspended from participation in Federal assistance awards in accordance with 40 CFR part 32. In addition, Applicants must comply with the Intergovernmental Review Process. Further information regarding this requirement will be provided if your proposal is selected for funding.

3. Reporting. The successful recipient will be required to submit quarterly and annual reports, and to submit annual financial reports. The specific information contained within the report will include at a minimum, a comparison of actual accomplishments to the objectives established for the period. The Certification and Worker Protection Branch may request additional information relative to the scope of work in the cooperative agreement and which may be useful for Agency reporting under the Government Performance and Results Act.

VII. Agency Contact

Carol Parker, Field and External Affairs Division (7506C), Office of Pesticide Programs, Environmental Protection Agency, 1200 Pennsylvania Ave., NW., Washington, DC 20460-0001; telephone number: (703) 305-6458; fax number: (703) 308-2962;e-mail address: parker.carol@epa.gov.

VIII. Other Information

A. Does this Action Apply to Me?

This action is directed to the public in general. Assistance is generally available to states, U.S. territories or possessions, federally recognized Tribal governments and organizations, public and private universities and colleges, hospitals, laboratories, other public or private nonprofit institutions and individuals. Non-profit organizations described in section 501(c)(4) of the Internal Revenue Code that engage in lobbying activities as defined in section 3 of the Lobbying Disclosure Action of 1995 are not eligible to apply. This program may, however, be of particular interest to agricultural, environmental, health, and educational organizations and agencies, colleges or universities, the Cooperative Extension Service and other public or non-profit agencies, authorities, institutions, organizations, individuals or other qualified entities working in agricultural science, technology, research, training, safety, education and communications. Those entities with broad reaches into the diverse interests of the agricultural community, including farmworkers, farmworker families, pesticide handlers, health providers, growers, the Cooperative Extension Service, state, national and international agriculture, environment, labor and occupational health, rural and migrant health, education agencies may be interested in applying. Because others may also be interested, the Agency has not attempted to describe all the specific entities that may be interested by this action. If you have any questions regarding the applicability of this action to a particular entity, consult the person listed under FOR FURTHER INFORMATION CONTACT.

B. How Can I Access Copies of this Document and Other Related Information?

1. Docket. EPA has established an official public docket for this action under docket ID number OPP-2004-0280. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/. An electronic version of the public docket is available through EPA's electronic public docket and comment system, EPA Dockets. You may use EPA Dockets at http://www.epa.gov/edocket/ to access the index listing of the contents of the official public docket, and to access those documents in the public docket that are available electronically. Although not all docket materials may be available electronically, you may still access any of the publicly available docket materials through the docket facility identified in the Unit VIII.B.1. Once in the system, select “search,” then key in the appropriate docket ID number.

IX. Submission to Congress and the Comptroller General

Grant solicitations such as this are considered rules for the purpose of the Congressional Review Act (CRA) (5 U.S.C. 801 et seq.). The CRA generally provides that before a rule may take effect, the agency promulgating the rule must submit a rule report, which includes a copy of the rule, to each House of the Congress and to the Comptroller General of the United States. EPA will submit a report containing this grant solicitation and other required information to the U.S. Senate, the U.S. House of Representatives, and the Comptroller General of the United States prior to its publication in the Federal Register. This rule is not a “major rule” as defined by 5 U.S.C. 804(2).

List of Subjects

Environmental protection, Grants, Pesticides, Training.

Dated: October 28, 2004.
Margaret Schneider,
Acting Assistant Administrator, Office of Prevention, Pesticides and Toxic Substances.

[FR Doc. 04-24929 Filed 11-9-04; 8:45 am]

BILLING CODE 6560-50-S